DEPARTMENT OF HOUSING AND URBAN DEVELOPMENT

[Docket No. FR-5758-N-04]

60-Day Notice of Proposed Information Collection: Rent Reform Demonstration (Task Order 1)

AGENCY: Office of the Assistant Secretary for Policy Development and Research, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: May 12, 2014.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; telephone 202-402-5564 (this is not a toll-free number) or email at Colette.Pollard@hud.gov for a copy of the proposed forms or other available information. Persons with hearing or speech impairments may access this number through TTY by calling the toll-free Federal Relay Service at (800) 877-8339.

FOR FURTHER INFORMATION CONTACT: Colette Pollard, Reports Management Officer, QDAM, Department of Housing and Urban Development, 451 7th Street SW., Washington, DC 20410; email Colette Pollard at Colette.Pollard@hud.gov or telephone 202-402-3400. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

A. Overview of Information Collection

Title of Information Collection: Rent Reform Demonstration.

Type of Request: New.

Description of the need for the information and proposed use: The Department is conducting this study under contract with MDRC and its subcontractors (Branch Associates, The Bronner Group, Decision Information Resources, Quadel Consulting Corporation, and the Urban Institute). The project is a random assignment trial of an alternative rent system. Families will be randomly assigned to either participate in the new/alternative rent system or to continue in the current system. For voucher holders, outcomes of the alternative system are hypothesized to be increases in earnings, employment and job retention, among others. Random assignment will limit the extent to which selection bias drives observed results. The demonstration will document the progress of a group of housing voucher holders, who will be drawn from current residents. The intent is to gain an understanding of the impact of the alternative rent system on the families as well as the administrative burden on Public Housing Agencies (PHAs). PHAs currently participating in the Moving to Work (MtW) Demonstration are being recruited to participate in the demonstration.

Data collection will include the families that are part of the treatment and control groups, as well as PHA staff. Data for this evaluation will be gathered through a variety of methods including informational interviews, direct observation, surveys, and analysis of administrative records. The work covered under this information request is for interviews and the baseline survey. Work funded by subsequent task orders will be covered under a separate information collection request.

Respondents: 12,030.

This includes:

• Public Housing Authority Staff: Up to 30 (i.e., assuming up to 5 staff at up to 6 PHAs).

• Families with housing vouchers, remaining in the current rent system (control group): Up to 6,000.

• Families with housing vouchers, enrolled in the alternative rent system (treatment group): Up to 6,0.

Information collection | Number of respondents | Frequency of response | Responses per annum | Burden hour per response | Annual burden hours | Hourly cost per response | Annual cost
Study information sheet | 12,000 | Once | Once, in Year 1, at random assignment only | Up to 10 minutes (or .17 hours) | 2,040 hours (12,000 * .17) | ¹ $7.25 | $7,395 (6,000 employed sample members * $7.25 * .17 hours).
Baseline Information | 12,000 | Once | Once, in Year 1, at random assignment only | 30 minutes, on average (or .50 hours) | 6,000 hours (12,000 * .50) | ² 7.25 | $21,750 (6,000 employed sample members * $7.25 * 0.5 hours).
Tracking survey sample (update contact information) | 12,000 | Two times | Once per year | 30 minutes, on average (or .50 hours) or 1 hour over the tracking period | 6,000 hours (12,000 * .5/year) | ³ 7.25 | $21,750 (6,000 employed sample members * $7.25 * 0.5 hours).
Data on implementation of new rent model. Meet with HA staff (recertification, data, and management) | 30 staff total (5 staff * 6 sites ) | Four times | Up to four times over the course of the first year | Incorporated into technical assistance and monitoring visits; 30-60 minutes | 120 hours (4 one-hour meetings * 30 staff) | 24.86 | ⁴ 2,983 (30 staff * $24.86 * 1 hour * 4 meetings).
Data on tenant experience of alternative rent model | 90 tenants (15 tenants * 6 sites) | Once | One time during the first year | Incorporated into technical assistance and monitoring visits; 30-60 minutes | 90 hours (1 one-hour meeting * 90 tenants) | ⁵ 7.25 | $326 (45 employed tenants * $7.25 * 1 hour).
Total | 12,030 |  |  |  | 14,250 |  | $54,204
¹ Potential respondents will range widely in employment position and earnings. For study participants, we have estimated the hourly wage at the federal minimum wage: $7.25 per hour. Based on other research, we expect about 50 percent of the participants to be employed at the time of study entry. Also, based on a recent report by the Center on Budget and Policy Priorities, some 55 percent of non-elderly, non-disabled households receiving voucher assistance reported earned income in 2010. The typical (median) annual earnings for these families were $15,600, only slightly more than the pay from full-time, year-round minimum-wage work. (http://www.cbpp.org/cms/?fa=view&id=3634). In the NYC Work Rewards study, based on 36-month survey data, the median wage for working participants was $10 an hour. Based on this, we assumed 6,000 (or 50% of the 12,000 projected sample) would be working at the federal minimum wage.
² Same note as 1.
³ Same note as 1.
⁴ For program staff, the estimate uses the median hourly wages of selected occupations (classified by Standard Occupational Classification (SOC) codes) was compared using Occupational Employment Statistics from the U.S. Department of Labor's Bureau of Labor Statistics. Potentially relevant occupations and their median hourly wages include:
⁵ Same note as 1.

Occupation | SOC Code | Median hourly wage rate
Community and Social Service Specialist | 21-1099 | $19.74
Social/community Service Manager | 11-9151 | 29.98
Source: Occupational Employment Statistics, May 2012, accessed online May 21st, 2013 at http://www.bls.gov/oes/current/oes_stru.htm To estimate cost burden to program staff respondents, we use an average of the occupations listed, or $24.86/hr.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond, including through the use of appropriate automated collection techniques or other forms of information technology, e.g., permitting electronic submission of responses.

HUD encourages interested parties to submit comment in response to these questions.

Authority: Section 3507 of the Paperwork Reduction Act of 1995, 44 U.S.C. Chapter 35.

Dated: February 28, 2014.
Jean Lin Pao,
General Deputy Assistant Secretary for Policy Development and Research.

[FR Doc. 2014-05401 Filed 3-12-14; 8:45 am]

BILLING CODE 4210-67-P